DEPARTMENT OF THE TREASURY

United States Mint

Notice Announcing the Price of the 2010 America the Beautiful Five Ounce Silver Uncirculated CoinsTM

ACTION: Notice.

SUMMARY: The United States Mint is announcing the price of the 2010 America the Beautiful Five Ounce Silver Uncirculated Coins™.

In accordance with 31 U.S.C. 5112(u) & 9701(b), the United States Mint 2010 America the Beautiful Five Ounce Silver Uncirculated Coins™ will be priced at $279.95.

FOR FURTHER INFORMATION CONTACT: B.B. Craig, Associate Director for Sales and Marketing; United States Mint; 801 9th Street, NW.; Washington, DC 20220; or call 202-354-7500.

Authority: 31 U.S.C. 5111, 5112, & 9701.

Dated: April 11, 2011.
Richard A. Peterson,
Acting Director, United States Mint.

[FR Doc. 2011-9246 Filed 4-15-11; 8:45 am]

BILLING CODE 4810-02-P